DEPARTMENT OF LABOR

Employment and Training Administration

[TA-W-64,647]

Trane US, Inc., Residential Systems Division, Including On-Site Leased Workers From Remedy Intelligent Staffing, Tyler, TX; Determination Regarding Eligibility To Apply for Worker Adjustment Assistance and Alternative Trade Adjustment Assistance

On May 1, 2009, the Department issued an Affirmative Determination Regarding Application for Reconsideration applicable to workers and former workers of the subject firm. The notice was published in the Federal Register on May 18, 2009 (74 FR 23216).

The previous investigation initiated on December 11, 2008, resulted in a negative determination issued on February 13, 2009, was based on the finding that imports of air conditioning units did not contribute importantly to worker separations at the subject firm and no shift of production to a foreign source occurred. The denial notice was published in the Federal Register on March 3, 2009 (74 FR 9279).

To support the request for reconsideration, the petitioner supplied additional information and alleged that the workers of the subject firm also manufactured components for air conditioning units and that the subject firm shifted production of these components to Mexico during the relevant period.

The Department contacted a company official of the subject firm to address this allegation. Upon further investigation, it was revealed that the workers of the subject firm did manufacture one- and two-cylinder reciprocating compressors and crankshafts during the relevant period. These workers were separately identifiable from other workers at the subject firm. The investigation also revealed that the subject firm shifted production of one- and two-cylinder reciprocating compressors and crankshafts to Mexico impacting workers engaged in the production of one- and two-cycle reciprocating compressors and crankshafts during the relevant period.

The petitioner also alleged that the subject firm is transferring the wiring department to Mexico in 2009.

The company official of the subject firm confirmed that Trane US, Inc. is considering a transfer of the wiring department to Mexico and that this transfer is currently in the planning process.

When assessing eligibility for TAA, the Department exclusively considers shifts in production which occur during the relevant time period (one year prior to the date of the petition). Events occurring in the future are outside of the relevant period and thus cannot be considered in this investigation.

Should conditions change in the future, the petitioner is encouraged to file a new petition on behalf of the worker group which will encompass an investigative period that will include these changing conditions.

The petitioner further alleged that the subject firm shifted production of gear drive centrifugal water chillers to China.

The company official stated that the workers of the subject firm did not manufacture gear drive centrifugal water chillers during the relevant period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met for the workers engaged in production of one- and two-cylinder reciprocating compressors.

A significant number of workers at the firm are age 50 or over and possess skills that are not easily transferable. Competitive conditions within the industry are adverse.

Conclusion

After careful review of the facts obtained in the investigation, I determine that there was a shift in production of one- and two-cylinder reciprocating compressors and crankshafts from the workers' firm or subdivision to Mexico. In accordance with the provisions of the Act, I make the following certification:

”Workers of Trane US, Inc., Residential Systems Division, including on-site leased workers from Remedy Intelligent Staffing, Tyler, Texas, engaged in production of one- and two-cylinder reciprocating compressors and crankshafts, who became totally or partially separated from employment on or after December 10, 2007, through two years from the date of this certification, are eligible to apply for adjustment assistance under Section 223 of the Trade Act of 1974, and are eligible to apply for alternative trade adjustment assistance under Section 246 of the Trade Act of 1974.”

I also determine that workers of Trane US, Inc., Residential Systems Division, Tyler, Texas, excluding workers engaged in production of one- and two-cylinder reciprocating compressors and crankshafts, are denied eligibility to apply for adjustment assistance under Section 223 of the Trade Act of 1974 and alternative trade adjustment assistance under Section 246 of the Trade Act of 1974.

Signed in Washington, DC this 18th day of June 2009.
Elliott S. Kushner,
Certifying Officer, Division of Trade Adjustment Assistance.

[FR Doc. E9-14764 Filed 6-23-09; 8:45 am]

BILLING CODE 4510-FN-P